DEPARTMENT OF THE INTERIOR

Fish and Wildlife Service

Endangered and Threatened Species Permit Applications

ACTION: Notice of receipt of applications.

SUMMARY: The following applicants have applied for a permit to conduct certain activities with endangered species. This notice is provided pursuant to section 10(a) of the Endangered Species Act of 1973, as amended (16 U.S.C. 1531, et seq.).

PERMIT NO. TE—797466

Applicant: Champion International Corporation, Huntsville, Texas.

Applicant requests authorization to conduct endangered species activities for the red-cockaded woodpecker (Picoides borealis) and the Houston toad (Bufo houstonensis) in Texas.

PERMIT NO. TE—22749

Applicant: SWCA, Phoenix, Arizona.

Applicant requests authorization to conduct presence/absence surveys for the southwestern willow flycatcher (Empidonax traillii extimus), cactus ferruginous pygmy-owl (Glaucidium basilianum cactorum), and Yuma clapper rail (Rallus longirostris yumanensis) in Maricopa, Pima, and Pinal Counties, Arizona.

PERMIT NO. TE—837751

Applicant: Bureau of Reclamation, Phoenix Area Office, Phoenix, Arizona.

Applicant requests authorization for recovery purposes to conduct activities for the Pima pineapple cactus (Coryphantha scheeri var. robustispina) in the San Javier District of the Tohono O'Odham Reservation and the Tucson metropolitan area of Arizona.

PERMIT NO. TE—814841

Applicant: Desert Botanical Garden, Phoenix, Arizona.

Applicant requests authorization for research and recovery purposes to collect seeds and voucher specimens from the Pima pineapple cactus (Coryphantha scheeri var. robustispina) in El Paso, Texas.

PERMIT NO. TE—23152

Applicant: Michael Baker Jr., Inc., Midvale, Utah.

Applicant requests authorization to conduct presence/absence surveys for the cactus ferruginous pygmy-owl (Glaucidium brasilianum cactorum) in Pima and Maricopa Counties, Arizona.

PERMIT NO. TE—23159

Applicant: Southwestern Ornithological Research and Adventures, Albuquerque, New Mexico.

Applicant requests authorization to conduct presence/absence surveys for the southwestern willow flycatcher (Empidonax traillii extimus) within New Mexico.

PERMIT NO. TE 822998

Applicant: Coronado National Forest, Tucson, Arizona.

Applicant requests authorization to conduct presence/absence surveys for the Yaqui chub (Gila purpurea) within lands of the Coronado National Forest.

PERMIT NO. TE 004401

Applicant: Robert Schmalzel, Tucson, Arizona.

Applicant requests authorization for scientific research and recovery purposes to conduct activities with the Pima pineapple cactus (Coryphantha scheeri var. robustispina) at the Arizona-Sonora Desert Museum in Arizona.

DATES: Written comments on these permit applications must be on or before March 27, 2000.

All comments received, including names and addresses, will become part of the official administrative record and may be made available to the public.

FOR FURTHER INFORMATION CONTACT: The U.S. Fish and Wildlife Service, Ecological Services, Division of Endangered Species/Permits, P.O. Box 1306, Albuquerque, New Mexico 87103. Please refer to the respective permit number for each application when requesting copies of documents. Documents and other information submitted with these applications are available for review, subject to the requirements of the Privacy Act and Freedom of Information Act, by any party who submits a written request for a copy of such documents within 30 days of the date of publication of this notice, to the address above.

Susan MacMullin,
Programmatic Assistant Regional Director, Ecological Services, Region 2, Albuquerque, New Mexico.

[FR Doc. 00-4370 Filed 2-23-00; 8:45 am]

BILLING CODE 4510-01-P